DEPARTMENT OF COMMERCE

National Oceanic and Atmospheric Administration

RIN 0648-XC534

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on March 26-27, 2013. The Council will convene on Tuesday, March 26, 2013 from 9 a.m. to 5 p.m., and the Administrative Committee will meet from 5:15 p.m. to 6 p.m. The Council will reconvene on Wednesday, March 27, 2012, from 9 a.m. to 5 p.m.

ADDRESSES: The meeting will be held at the Buccaneer Hotel, 7 Estate Shoys, Christiansted, St. Croix U.S.V.I.

FOR FURTHER INFORMATION CONTACT: Caribbean Fishery Management Council, 270 Muñoz Rivera Avenue, Suite 401, San Juan, Puerto Rico 00918, telephone: (787) 766-5926.

SUPPLEMENTARY INFORMATION: The Council will hold its 145th regular Council Meeting to discuss the items contained in the following agenda:

March 26, 2013, 9 a.m.-5 p.m.

• Call to Order

• Adoption of Agenda

• Consideration of 144th Council Meeting Verbatim Transcriptions

• Executive Director's Report

• Fishery Management Plan for Queen Conch Resources of Puerto Rico and the U.S. Virgin Islands: Compatibility of Trip and Bag Limits

—Summary of Public Hearings

—Public Comment Period (30 minutes, additional time could be allowed by the Chairperson)

—Council Decision

—Final Action

• Development of Island-Based Fishery Management Plans (FMPs) in the U.S. Caribbean: Transition from Species-Based FMPs to Island-Based FMPs

—Presentation on Issues, e.g., OY/MSY, Among Others—Graciela García-Moliner/Bill Arnold

—Next Steps

• Exempted Fishing Permits (EFP) Report

—Puerto Rico

—U.S.V.I

• Addressing Compatibility Issues for Bajo de Sico-Abrir La Sierra-Tourmaline off the West Coast of Puerto Rico—Graciela García-Moliner/Bill Arnold

—Shared Jurisdictions: Bajo de Sico and Tourmaline

—Seasonal Area Closures Differences in Months

• SEFSC Queen Snapper and Red Hind Data Evaluation Update

• SEDAR Update: Red Hind and White Grunt

Public Comment Period (5-Minutes Presentations)

March 26, 2013, 5:15 p.m.-6 p.m.

• Administrative Committee Meeting

—Budget Update FY 2013/14

—SSC/AP Memberships

—Other Business

March 27, 2013, 9 a.m.-5 p.m.

• Essential Fish Habitat Update—Graciela García-Moliner

• Scientific and Statistical Committee Report—Barbara Kojis

—Research Priorities

—Scientific Strategic Plan Update

• Presentation on Regulatory Reorganization (SERO)—Bill Arnold/Phil Steele

• Trap Reduction Project Report

—USVI Trap Fishery Control Date

• Report on Trap Vents—David Olsen

• Spiny Lobster Project Update—David Olsen

• Electronic Reporting for Fish Dealers U.S. Caribbean

• Enforcement Issues:

—Follow up on Outreach and Education Enforcement

—Reports:

—Puerto Rico—DNER

—Commercial-Recreational Fishing Licenses/Permits

—Letter from Victor Padilla Re: Trap Poaching in the EEZ and Local Waters

—U.S. Virgin Islands—DPNR

—NOAA/NMFS

—U.S. Coast Guard

• Administrative Committee Recommendations

• Meetings Attended by Council Members and Staff

Public Comment Period (5-Minute Presentations)

• Other Business

• Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 270 Muñoz Rivera Avenue, Suite 401, San Juan, Puerto Rico 00918, telephone (787) 766-5926, at least 5 days prior to the meeting date.

Dated: March 5, 2013.
Tracey L. Thompson,
Acting Deputy Director, Office of Sustainable Fisheries, National Marine Fisheries Service.

[FR Doc. 2013-05533 Filed 3-8-13; 8:45 am]

BILLING CODE 3510-22-P